DEPARTMENT OF STATE

[Public Notice: 12833; No. 2025-05]

Designation Pursuant to the Foreign Missions Act

Pursuant to the authority vested in the U.S. Secretary of State by the laws of the United States, including under the Foreign Missions Act, 22 U.S.C. 4301, et seq. (“the Act”), and delegated pursuant to U.S. Department of State Delegation of Authority No. 214, dated September 20, 1994, and after due consideration of the benefits, privileges, and immunities provided to the missions of the United States abroad, as well as matters related to the protection of the interests of the United States, I hereby designate membership in wholesale club stores and the acquisition by any means of items from wholesale club stores as a benefit, as defined in 22 U.S.C. § 4302(a)(1), for purposes of the Act.

Dated: September 16, 2025.
Clifton C. Seagroves,
Acting Director Office of Foreign Missions, U.S. Department of State.

[FR Doc. 2025-18387 Filed 9-22-25; 8:45 am]

BILLING CODE 4711-07-P